DEPARTMENT OF VETERANS AFFAIRS

Reasonable Charges for Medical Care or Services; 2011 Calendar Year Update

AGENCY: Department of Veterans Affairs.

ACTION: Notice.

SUMMARY: This Department of Veterans Affairs (VA) notice informs the public of updated data for calculating the “reasonable charges” collected or recovered by VA for medical care or services provided or furnished by VA to a veteran for: (1) A non service-connected disability for which the veteran is entitled to care or the payment of expenses for care under a health plan contract; (2) a non service-connected disability incurred incident to the veteran's employment and covered under a worker's compensation law or plan that provides reimbursement or indemnification for such care and services; or (3) a non service-connected disability incurred as a result of a motor vehicle accident in a state that requires automobile accident reparations insurance. The charge tables and supplemental tables that are applicable to this notice can be viewed on the Veterans Health Administration Chief Business Office's Intranet and Internet Web sites. These changes are effective January 1, 2011.

FOR FURTHER INFORMATION CONTACT: Romona Greene, Chief Business Office (168), Veterans Health Administration, Department of Veterans Affairs, 810 Vermont Avenue, NW., Washington, DC 20420, (202) 461-1595. This is not a toll free number.

SUPPLEMENTARY INFORMATION: Section 17.101 of title 38, United States Code of Federal Regulations (CFR), sets forth the Department of Veterans Affairs (VA) medical regulations concerning “reasonable charges” for medical care or services provided or furnished by VA to a veteran for: (1) A non service-connected disability for which the veteran is entitled to care (or the payment of expenses for care) under a health plan contract; (2) a non service-connected disability incurred incident to the veteran's employment and covered under a worker's compensation law or plan that provides reimbursement or indemnification for such care and services; or (3) a non service-connected disability incurred as a result of a motor vehicle accident in a state that requires automobile accident reparations insurance.

The regulation also provides that data for calculating actual charge amounts at individual VA facilities based on these methodologies will either be published as a notice in the Federal Register or will be posted on the Internet site of the Veterans Health Administration Chief Business Office, currently at http://www.va.gov/cbo, under “Charge Data.” The charge tables and supplemental tables that are applicable to this Federal Register notice can be viewed on the Veterans Health Administration Chief Business Office's Intranet and Internet Web sites. Certain charges are hereby updated as described below. These changes are effective January 1, 2011.

We note that in cases where charges for medical care or services provided or furnished at VA expense (by either VA or non-VA providers) have not been established under other provisions or regulations, the method for determining VA's charges is set forth at 38 CFR 17.101(a)(8).

The regulation includes methodologies for establishing billed amounts for the following types of charges: Acute inpatient facility charges; skilled nursing facility and sub-acute inpatient facility charges; partial hospitalization facility charges; outpatient facility charges; physician and other professional charges, including professional charges for anesthesia services and dental services; pathology and laboratory charges; observation care facility charges; ambulance and other emergency transportation charges; and charges for durable medical equipment, drugs, injectables, and other medical services, items, and supplies identified by Healthcare Common Procedure Coding System (HCPCS) Level II codes. Each type of charge is addressed below.

Acute inpatient facility charges remain the same as set forth in the notice published in the Federal Register on September 27, 2010 (75 FR 59329). VA's current inpatient charge structure utilizes the methodology set forth in 38 CFR 17.101 and does not itemize inpatient bills.

Skilled nursing facility/sub-acute inpatient facility charges also remain the same as set forth in a notice published in the Federal Register on September 27, 2010 (75 FR 59329).

Based on the methodologies set forth in 38 CFR 17.101, this document provides an update to charges for 2011 HCPCS Level II and Current Procedural Technology (CPT) codes. Charges are also being updated based on more recent versions of data sources for the following charge types: Partial hospitalization facility charges; outpatient facility charges; physician and other professional charges, including professional charges for anesthesia services and dental services; pathology and laboratory charges; observation care facility charges; ambulance and other emergency transportation charges; and charges for durable medical equipment, drugs, injectables, and other medical services, items, and supplies identified by HCPCS Level II codes. These updated charges are effective January 1, 2011.

In this update, we are retaining the table designations used for HCPCS Level II and CPT Codes in the notice posted on the Internet site of the Veterans Health Administration Chief Business Office currently at http://www.va.gov/cbo , under “Charge Data.” The effective date of this change was January 1, 2010, and the notice can be found in the Federal Register. 74 FR 68660 (Dec. 28, 2009). Accordingly, the tables identified as being updated by this notice correspond to the applicable tables posted on the Internet with the notice, beginning with Table C.

The list of VA medical facility locations has also been updated. As a reminder, in Supplementary Table 3 we set forth the list of VA medical facility locations, which includes the first three-digits of their zip codes and provider based/non-provider based designations.

Consistent with VA's regulations, the updated data tables and supplementary tables containing the changes described in this notice will be posted on the Internet site of the Veterans Health Administration Chief Business Office, currently at http://www.va.gov/cbo, under “Charge Data.” The updated data tables and supplementary tables containing the changes described will be effective until changed by a subsequent Federal Register notice.

Approved: December 20, 2010.
John R. Gingrich,
Chief of Staff, Department of Veterans Affairs.

[FR Doc. 2010-32426 Filed 12-23-10; 8:45 am]

BILLING CODE 8320-01-P